ENVIRONMENTAL PROTECTION AGENCY

[EPA-R9-SFUND-2010-0506; FRL-9313-9]

Agency Information Collection Activities; Submission to OMB for Review and Approval; Comment Request; Palos Verdes Shelf Seafood Consumption Survey (New)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Comments must be submitted on or before July 1, 2011.

ADDRESSES: Submit your comments, referencing Docket ID No. EPA-R9-SFUND-2010-0506, to (1) EPA online using http://www.regulations.gov (our preferred method), by email to white.carmen@epa.gov, or by mail to: Palos Verdes Shelf Seafood Consumption Survey, U.S. Environmental Protection Agency, Mailcode: SFD-8-2, 75 Hawthorne St., San Francisco, CA 94105, and (2) OMB by mail to: Office of Information and Regulatory Affairs, Office of Management and Budget (OMB), Attention: Desk Officer for EPA, 725 17th Street, NW., Washington, DC 20503.

FOR FURTHER INFORMATION CONTACT: Carmen White, Region 9 Superfund Division, SFD-8-2, Environmental Protection Agency, 75 Hawthorne St., San Francisco, CA 94105; telephone number: 415-972-3010; fax number: 415-947-3526; email address: white.carmen@epa.gov.

SUPPLEMENTARY INFORMATION: EPA has submitted the following ICR to OMB for review and approval according to the procedures prescribed in 5 CFR 1320.12. On August 10, 2010 (75 FR 48324), EPA sought comments on this ICR pursuant to 5 CFR 1320.8(d). EPA received 1 comment during the comment period, which is addressed in the ICR. Any additional comments on this ICR should be submitted to EPA and OMB within 30 days of this notice.

EPA has established a public docket for this ICR under Docket ID No. EPA-R9-SFUND-2010-0506, which is available for online viewing at www.regulations.gov, or in person viewing at the Superfund Records Circulation Desk, 95 Hawthorne St., Room 405, San Francisco, CA 94105. The Superfund Records Center Circulation Desk is open from 8 a.m. to 5 p.m., Monday through Friday, excluding legal holidays. The telephone number for the Circulation Desk is 415-820-4700.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Palos Verdes Shelf Seafood Consumption Survey (New).

ICR numbers: EPA ICR No. 2399.01, OMB Control No. 2009-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Palos Verdes Shelf Superfund site (PV Shelf) is a large sediment deposit off the coast of Los Angeles that contains approximately 110 tons of DDT and 10 tons of PCBs. The contaminants are in sediment too deep for direct human contact; however, fish in the PV Shelf area bioaccumulate the contaminants, exposing people who consume them to these hazardous substances. The objective of this information collection request (ICR) is to gather quantitative data that will provide estimates of angler seafood consumption in the PV Shelf area that can be used in EPA's outreach and education program and in human health risk assessments. The survey will (1) Determine the fish species that are being caught and consumed at the highest rates, (2) identify demographic and ethnic subgroups within the general fishing population of the PV Shelf area that may be consuming large quantities of contaminants through selection, quantity, and/or cooking method of fish species, (3) gather quantitative data that can be used to characterize exposures of the general fishing population of the PV Shelf area to DDTs and PCBs from consumption of fish and shellfish caught in the PV Shelf area, and (4) gather sufficient information to determine whether the existing human health risk assessment needs to be revised before its use in a final Record of Decision. Anglers will be asked to answer about a dozen questions regarding their fishing habits. Participation is voluntary and confidential. Demographic data will be collected; however, no personal identification information will be collected.

Burden Statement: The annual public reporting and recordkeeping burden for this collection of information is estimated to average 15 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Fisherman: Individual anglers found fishing in the survey area, defined as the coastal region from Santa Monica Pier to Seal Beach Pier.

Estimated Number of Respondents: 1,392.

Frequency of Response: Once.

Estimated Total Annual Hour Burden: 90.

Estimated Total Annual Cost: $0.

Changes in the Estimates: This is a new one-time survey, thus there is no currently approved burden.

Dated: May 25, 2011.
John Moses,
Director, Collection Strategies Division.

[FR Doc. 2011-13578 Filed 5-31-11; 8:45 am]

BILLING CODE 6560-50-P